DEPARTMENT OF HEALTH AND HUMAN SERVICES

National Institutes of Health

National Institute of Diabetes and Digestive and Kidney Diseases; Amended Notice of Meeting

Notice is hereby given of a change in the meeting of the National Diabetes and Digestive and Kidney Diseases Advisory Council, January 10, 2024, 08:30 a.m. to January 11, 2024, 04:30 p.m., National Institutes of Health, Building 31, 31 Center Drive, C Wing 6th Floor Conf. Room F&G, Bethesda, MD, 20892 which was published in the Federal Register on September 19, 2023, 88 FR 64448.

This meeting is being amended to reflect the change in time on the second day of the meeting, January 11, 2024 from 04:30 p.m. to 12:00 p.m., and to add the conference room to the meeting location Building 31, 6th Floor Conference Room F&G. The meeting is partially closed to the public.

Dated: December 20, 2023.
Miguelina Perez,
Program Analyst, Office of Federal Advisory Committee Policy.

[FR Doc. 2023-28389 Filed 12-22-23; 8:45 am]

BILLING CODE 4140-01-P